DEPARTMENT OF STATE

[Public Notice 4250]

Notice Convening the Accountability Review Board for the Murder of Mr. Laurence Foley, USAID Official in Amman, Jordan

Pursuant to section 301 of the Omnibus Diplomatic Security and Antiterrorism Act of 1986 (22 U.S.C. 4831 et seq.), I have determined that the October 28, 2002, murder of Mr. Laurence (Larry) Foley of the U.S. Agency for International Development (AID) in Amman, Jordan, involved loss of life at or related to a U.S. mission abroad. Therefore, I am convening an Accountability Review Board, as required by that statute, to examine the facts and the circumstances of the attack and report to me such findings and recommendations as it deems appropriate, in keeping with the attached mandate.

I have appointed Ambassador Wesley Egan as Chair of the Board. He will be assisted by Frederick Mecke, Timothy Deerr, George Wachtenheim, Charles S. Phalen, Jr., and by Executive Secretary Howard Perlow. All will bring to their deliberations distinguished backgrounds in government service and in the private sector.

I have asked the Board to submit its conclusions and recommendations to me within 60 days of its first meeting, unless the Chair determines a need for additional time. Appropriate action will be taken and reports submitted to Congress on any recommendations made by the Board.

Anyone with information relevant to the Board's examination of this incident should contact the Board promptly at (202) 647-5204 or send a fax to the Board at (202) 647-3282.

Dated: January 6, 2003.
Colin L. Powell,
Secretary of State, Department of State.

Accountability Review Board— Amman, Jordan; Mandate

A. Review and Report. The Accountability Review Board shall examine the facts and circumstances surrounding the October 28, 2002, murder of Mr. Laurence Foley, an employee of the U.S. Agency for International Development who was assigned to the American Embassy in Amman, Jordan. Mr. Foley was shot in the driveway of his home at approximately 7:15 a.m. while preparing to leave for work. The ARB shall submit a detailed written report to the Secretary of State within 60 days of its first meeting. If the Chair determines that more than 60 days are necessary to complete the Board's review, the Chair shall notify the Secretary of State of that fact and the amount of additional time needed.

B. Findings. In accordance with section 304 (a) of the Omnibus Diplomatic Security and Antiterrorism Act of 1986 (”the Act”), the Board shall make written findings in its report to include at least the following matters:

1. The extent to which the incident (with respect to which the Board was convened) was security-related;

2. Whether in this case the security systems and security procedures were adequate;

3. Whether the security systems and security procedures were properly implemented in this case;

4. The impact of intelligence and information availability in this case;

5. Whether there is reasonable cause to believe that any individual has breached the duty of that individual; and

6. Such other factors and circumstances which may be relevant to the appropriate security management of United States missions abroad.

C. Program Findings and Recommendations. The Board shall submit its findings (which may be classified to the extent deemed necessary by the Board) to the Secretary of State, together with recommendations, as appropriate, to improve the security and efficiency of any program or operations which the Board has reviewed.

D. Personnel Findings and Recommendations. If the Board finds reasonable cause to believe that an employee of the United States Government, or member of the uniformed services, as defined by section 303(a)(1)(B) of the Act, has breached his or her duty, the Board shall:

(1) Notify the individual concerned;

(2) Transmit the finding of reasonable cause, together with all information relevant to such finding, to the head of the appropriate Federal agency or instrumentality; and

(3) Recommend that such agency or instrumentality initiate appropriate investigatory or disciplinary actions.

E. Coordination with Law Enforcement Investigations. I expect that the Board will carry out its activities in a manner that does not interfere with or compromise the work of the Justice Department or any other law enforcement authority conducting an investigation of the incident. Specifically, the Board shall coordinate its activities in accordance with the State-Justice Memorandum of Understanding (MOU) signed in September of 2001.

F. Termination. The Board shall terminate 30 days after submission of its report to the Secretary of State unless the Secretary of State within that time requests that further proceedings be held by the Board and specifies a new termination date.

[FR Doc. 03-1645 Filed 1-24-03; 8:45 am]

BILLING CODE 4710-10-P